DEPARTMENT OF THE INTERIOR

Fish and Wildlife Service

Endangered and Threatened Species Permit Applications

AGENCY: Fish and Wildlife Service, Interior.

ACTION: Notice of receipt of application.

The following applicants have applied for scientific research permits to conduct certain activities with endangered species pursuant to sections 10(a)(1)(A) and 10(c) of the Endangered Species Act of 1973, as amended (16 U.S.C. 1531, et seq.).

Permit Number TE023664

Applicant: Virgil Brack, Jr., Cincinnati, Ohio.

The applicant currently possesses a permit to take (survey and hold) Gray bat (Myotis grisecens), Indiana bat (Myotis sodalis), Ozark big-eared bat (Corynhorhinus townsendii ingens), and the Virginia big-eared bat (Corynhorhinus townsendii virginianus) throughout the majority of the species ranges in 27 States. The applicant requests to expand activities into the States of Connecticut, Delaware, Florida, and Nebraska. The scientific research is aimed at enhancement of survival of the species in the wild.

Permit Number TE056081

Applicant: EnviroScience, Inc., Stow, Ohio.

The applicant requests a permit to take (capture and release) the following listed unionid mussel species: fanshell (Cyprogenia stegaria), purple catspaw (Epioblasma obliquata obliquata), white catspaw (E. o. perobliqua), northern riffleshell (E. torulosa rangiana), pink mucket pearlymussel (Lampsilis abrupta), Higgins' eye pearlymussel (L. higginsi), white wartyback (Plethobasus cicatricosus), orange-foot pimpleback pearlymussel (P. cooperianus), clubshell (Pleurobema clava), rough pigtoe (P. plenum), fat pocketbook (Potamilus capax), and winged mapleleaf mussel (Quadrula fragosa). Activities are proposed within the States of Ohio, Indiana, Michigan, Iowa, Wisconsin, Minnesota, Illinois, and Missouri. The scientific research is aimed at enhancement of survival of the species in the wild.

Permit Number TE056264

Applicant: John Shuey, Indianapolis, Indiana.

The applicant requests a permit to take male Mitchell's satyr (Neonympha mitchellii mitchellii) in Indiana for genetic analysis. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who requests a copy from the following office within 30 days of the date of publication of this notice: U.S. Fish and Wildlife Service, Ecological Services Operations, 1 Federal Drive, Fort Snelling, Minnesota 55111-4056, peter_fasbender@fws.gov, Telephone (612) 713-5343, or Fax (612) 713-5292.

Dated: May 2, 2002.
T.J. Miller,
Acting Assistant Regional Director, Ecological Services, Region 3, Fort Snelling, Minnesota.

[FR Doc. 02-13077 Filed 5-23-02; 8:45 am]

BILLING CODE 4310-55-P